DEPARTMENT OF THE INTERIOR

National Park Service

[NPS-SER-VIIS-10517; 5360-726]

Minor Boundary Revision at Virgin Islands National Park

AGENCY: National Park Service, Interior.

ACTION: Notification of Boundary Revision.

SUMMARY: Notice is hereby given that, pursuant to 16 U.S.C. 4601-9(c)(1)(ii), the boundary of the Virgin Islands National Park is modified to include an additional 3.57 acres of unimproved land identified as Tract 03-157, which will then be donated to the United States. The land is located at Estate Haulover on the east end of the Island of St. John, immediately adjacent to the current boundary of the Virgin Islands National Park. The boundary revision is depicted on Map No. 161/92,009A dated March 2011. The map is available for inspection at the following locations: National Park Service, Southeast Region Land Resources Program Center, 1924 Building, 100 Alabama Street SW., Atlanta, Georgia 30301, and National Park Service, Department of the Interior, Washington, DC 20240.

FOR FURTHER INFORMATION CONTACT: National Park Service, Chief, Southeast Region Land Resources Program Center, 1924 Building, 100 Alabama Street SW., Atlanta, Georgia 30303, telephone (404) 507-5664.

DATES: The effective date of this boundary revision is September 12, 2012.

SUPPLEMENTARY INFORMATION: 16 U.S.C. 460l-9(c)(1)(ii) provides that, after notifying the House Committee on Natural Resources and the Senate Committee on Energy and Natural Resources, the Secretary of the Interior is authorized to make this boundary revision upon publication of notice in the Federal Register. The Committees have been notified of this boundary revision. This boundary revision will make a significant contribution to the purposes for which the national park was established by enabling the Service to efficiently manage and protect significant resources similar to that already protected within the present park boundary. This property contains significant natural and cultural resources. Its two wetlands and expanse of shoreline make this an important site for resident and migratory birds, as well as locally listed flora and fauna. The site has a rich history as well, as Taino Indian and colonial period pottery shards have been found in this area.

Dated: July 23, 2012.
David Vela,
Regional Director, Southeast Region.

[FR Doc. 2012-22406 Filed 9-11-12; 8:45 am]

BILLING CODE 4310-VP-P